DEPARTMENT OF ENERGY

Federal Energy Regulatory Commission

September 25, 2002.

[Docket Nos. RP00-398-002 and RP01-34-004]

Overthrust Pipeline Company; Notice of Compliance Filing

Take notice that on September 23, 2002, Overthrust Pipeline Company (Overthrust) tendered for filing as part of its FERC Gas Tariff, First Revised Volume No. 1-A, the tariff sheets listed follows:

First Revised Volume No. 1-A

Ninth Revised Sheet No. 1

Ninth Revised Sheet No. 4

Sixth Revised Sheet No. 5

Twelfth Revised Sheet No. 30

Fifth Revised Sheet No. 44

Fifth Revised Sheet No. 45

Ninth Revised Sheet No. 48

Fifth Revised Sheet No. 54

Fourth Revised Sheet No. 58

Original Sheet No. 58A

First Revised Sheet No. 67G

Original Sheet No. 67H

Original Sheet No. 67I

Original Sheet No. 67J

Original Sheet No. 67K

Fourth Revised Sheet No. 78E

First Revised Sheet No. 78I

Original Sheet No. 78J

Original Sheet No. 78K

Alternate Original Sheet No. 78J

Alternate Original Sheet No. 78K

Overthrust states that the filing is being made in compliance with the Commission's Order on Compliance with Order Nos. 637, 587-G and 587-L issued on August 22, 2002, (the August 22nd order) in Docket Nos. RP00-398-000, RP01-34-000, and -001. The August 22nd order approved, in part, Overthrust's pro forma tariff sheets filed July 14, 2000, and directed Overthrust to make further modifications. Overthrust tendered for filing, proposed actual tariff sheets that include the language approved in Overthrust's July 14, 2000, pro forma compliance filing as well as language that comports with the Commission's directives. These modifications are included in First Revised Volume No. 1-A of Overthrust's FERC Gas Tariff.

Overthrust states that a copy of this filing has been served upon its customers, the Public Service Commission of Utah and the Public Service Commission of Wyoming.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-24885 Filed 10-1-02; 8:45 am]

BILLING CODE 6717-01-P